DEPARTMENT OF LABOR

Employment and Training Administration

[TA-W-74,895, et al.]

Wellpoint, Inc. D/B/A/Anthem Blue Cross & Blue Shield Enterprise Provider Data Management Team Including On-Site Leased Workers From Kelly Services and Jacobsen Group, et al.; Amended Certification Regarding Eligibility To Apply for Worker Adjustment Assistance

TA-W-74,895

Wellpoint, Inc., D/B/A/Anthem Blue Cross & Blue Shield, Enterprise Provider Data Management Team, Including On-Site Leased Workers From Kelly Services and Jacobsen Group, Indianapolis, Indiana

TA-W-74,895A

Wellpoint, Inc., D/B/A/Anthem Health Plans Of Kentucky, Enterprise Provider Data Management Team, Louisville, Kentucky

TA-W-74,895B

Wellpoint, Inc., Enterprise Provider Data Management Team, Saint Louis, Missouri

TA-W-74,895C

Wellpoint, Inc., D/B/A/Anthem, Enterprise Provider Data Management Team, (Pewaukee) Waukesha, Wisconsin

TA-W-74,895D

Wellpoint, Inc., D/B/A/Anthem, Enterprise Provider Data Management Team, Richmond, Virginia

TA-W-74,895E

Wellpoint, Inc., D/B/A/Anthem East, Enterprise Provider Data Management Team, North Haven, Connecticut

TA-W-74,895F

Wellpoint, Inc., D/B/A/Blue Cross Blue Shield Of Georgia, Enterprise Provider Data Management Team, Atlanta, Georgia

TA-W-74,895G

Wellpoint, Inc., D/B/A/Blue Cross Blue Shield of Georgia, Enterprise Provider Data Management Team, Columbus, Georgia

TA-W-74,895I

Wellpoint, Inc., D/B/A/Anthem East, Enterprise Provider Data Management Team, Manchester, New Hampshire

TA-W-74,895J

Wellpoint, Inc., D/B/A/Empire Blue Cross and Blue Shield, Enterprise Provider Data Management Team, Albany, New York

TA-W-74,895K

Wellpoint, Inc., D/B/A/Empire Blue Cross and Blue Shield, Enterprise Provider Data Management Team, Brooklyn, New York

TA-W-74,895L

Wellpoint, Inc., D/B/A/Anthem, Enterprise Provider Data Management Team, Mason, Ohio

In accordance with Section 223 of the Trade Act of 1974, as amended (“Act”), 19 U.S.C. 2273, the Department of Labor issued a Certification of Eligibility to Apply for Worker Adjustment Assistance on January 12, 2011, applicable to workers of Wellpoint, Inc., Enterprise Provider Data Management Team, including on-site leased workers from Kelly Services and Jacobsen Group, Indianapolis, Indiana. The workers provide health insurance transactional services. The notice was published in the Federal Register on January 26, 2011 (76 FR 4731). The certification was amended on March 30, 2011 to include workers from auxiliary facilities in multiple states who were similarly affected by the acquisition of services that contributed importantly to separations at the Indianapolis, Indiana facility. The amended certification will be published soon in the Federal Register.

At the request of a State agency, the Department reviewed the amended certification for workers of the subject firm.

A review of the amended certifications shows that workers of Wellpoint, Inc., d/b/a Anthem East, Enterprise Provider Data Management Team, South Portland, Maine (TA-W-895H) are currently covered under an existing certification, TA-W-74,299, that expires on August 2, 2012.

Accordingly, the Department is amending this certification to delete TA-W-895H. The other locations covered by the amended certification are unaffected.

The amended notice applicable to TA-W-74,895 is hereby issued as follows:

All workers of Wellpoint, Inc., d/b/a Anthem Blue Cross & Blue Shield, Enterprise Provider Data Management Team, including on-site leased workers from Kelly Services and Jacobsen Group, Indianapolis, Indiana (TA-W-74,895), Wellpoint, Inc., d/b/a Anthem Health Plans of Kentucky, Enterprise Provider Data Management Team, Louisville, Kentucky (TA-W-74,895A), Wellpoint, Inc., Enterprise Provider Data Management Team, Saint Louis, Missouri (TA-W-74,895B), Wellpoint, Inc., d/b/a Anthem, Enterprise Provider Data Management Team, (Pewaukee), Waukesha, Wisconsin (TA-W-74,895C), Wellpoint, Inc., d/b/a Anthem, Enterprise Provider Data Management Team, Richmond, Virginia (TA-W-74,895D), Wellpoint, Inc., d/b/a Anthem East, Enterprise Provider Data Management Team, North Haven, Connecticut (TA-W-74,895E), Wellpoint, Inc., d/b/a Blue Cross Blue Shield of Georgia, Enterprise Provider Data Management Team, Atlanta, Georgia (TA-W-74,895F), Wellpoint, Inc., d/b/a Blue Cross Blue Shield of Georgia, Enterprise Provider Data Management Team, Columbus, Georgia (TA-W-74,895G), Wellpoint, Inc., d/b/a Anthem East, Enterprise Provider Data Management Team, Manchester, New Hampshire (TA-W-74,895I) Wellpoint, Inc., d/b/a Empire Blue Cross, Enterprise Provider Data Management Team, Albany, New York (TA-W-74,895J) Wellpoint, Inc., d/b/a Empire Blue Cross and Blue Shield, Enterprise Provider Data Management Team, Brooklyn, New York (TA-W-74,895K) Wellpoint, Inc., d/b/a Anthem, Enterprise Provider Data Management Team, Mason, Ohio (TA-W-74,895L), who became totally or partially separated from employment on or after November 15, 2009, through January 12, 2013, and all workers in the group threatened with total or partial separation from employment on the date of certification through two years from the date of certification, are eligible to apply for adjustment assistance under Chapter 2 of Title II of the Trade Act of 1974, as amended.

Signed in Washington, DC, this 15th day of April 2011.
Michael W. Jaffe,
Certifying Officer, Office of Trade Adjustment Assistance.

[FR Doc. 2011-9912 Filed 4-22-11; 8:45 am]

BILLING CODE 4510-FN-P